DEPARTMENT OF HEALTH AND HUMAN SERVICES

[Document Identifier 4040-0001; 30-day Notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to ed.calimag@hhs.gov, or call the Reports Clearance Office on (202) 690-6162. Written comments and recommendations for the proposed information collections must be directed to the OS Paperwork Clearance Officer at the above e-mail address within 30 days.

Proposed Project: SF-424 Research and Related Form Extension—OMB No. 4040-0001.

Office: Grants.gov.

Abstract

The SF-424 Research and Related form (R&R) is an OMB approved collection (4040-0001). We propose revising the collection to include changes adopted by the cross-agency R&R working group. This working group established the original proposed collection of 4040-0001 in 2004. The form instructions will also be revised.

This collection will be utilized by up to 26 Federal grant-making agencies. The 4040-0001 collection expires on June 30, 2011. We are requesting a three-year clearance of this collection. The 4040-0001 proposed collection encompasses the following forms:

SF 424 (R&R) Application for Federal Assistance (Cover);

R&R Personal Data;

R&R Senior/Key Person Profile;

R&R Senior/Key Person Profile (Expanded);

R&R Other Project Information;

SBIR/STTR Information;

R&R Budget (up to 5 years);

R&R Budget (up to 10 years);

R&R Federal/Non-Federal Budget (up to 5 years);

R&R Federal/Non-Federal Budget (up to 10 years);

R&R Subaward Budget Attachment(s) Form (up to 10 attachments);

5 Year R&R Subaward Budget Attachment(s) Form (up to 30 attachments);

10 Year R&R Subaward Budget Attachment(s) Form (up to 10 attachments);

10 Year R&R Subaward Budget Attachment(s) Form (up to 30 attachments).

There are four requested changes to the SF 424 (R&R) Application for Federal Assistance (Cover): (1) Addition of a new field numbered 4.C and titled “Previous Grants.gov Tracking Number”; (2) Modification of an existing section “Person to be contacted on matters involving this application” to include the following fields (* to indicate Mandatory fields): Position/Title, Street1*, Street2, City*, County/Parish, State*, Province, Country*, ZIP/Postal Code*; (3) Update current field label for Item 18 from “SF LLL or other Explanatory Documentation” to “SF LLL (Disclosure of Lobbying Activities) or Other Explanatory Documentation”; (4) Addition of a new optional field numbered 21 entitled “Cover Letter Attachment”.

There are four requested changes to the R&R Other Project Information form: (1) Addition of yes/no question “1.b Is this a Clinical Trial?”; (2) Addition of a new field titled “3.a Areas of Research”; (3) Change existing field label for 4.a from “Does this project have an actual or potential impact on the environment?” to “Does this Project Have an Actual or Potential Impact—positive or negative—on the environment?”; (4) Change existing field label for 4.b from “If yes, please explain” to “If yes, please explain—Enter an explanation for the actual or potential impact (whether positive or negative) on the environment.”

These changes to the instructions will increase data quality and clarity for the collection. Agencies will not be required to collect all of the information in the proposed data set. The agency will identify the data that must be provided by applicants through instructions that will accompany the application forms.

Estimated Annualized Burden Table
Form | Type of respondent | Number of annual respondents | Number of responses per respondent | Average burden on respondent per response in hours | Total burden hours
SF-424 R&R | Grant Applicant | 97,581 | 1 | 60 | 5,854,860
Total |  | 97,581 | 1 | 60 | 5,854,860

Comments were received in response to the 60-day Federal Register Notice (April 28, 2011, Volume 76, Number 82, pp. 23816-23817). The requested changes will be modified to accommodate the received responses.

Keith A. Tucker,
Office of the Secretary, Paperwork Reduction Act Clearance Officer.

[FR Doc. 2011-28276 Filed 10-31-11; 8:45 am]

BILLING CODE 4151-AE-P